ENVIRONMENTAL PROTECTION AGENCY

40 CFR Parts 52 and 81

[EPA-R05-OAR-2017-0277; FRL-9971-64-Region 5]

Air Plan Approval; Illinois; Redesignation of the Illinois Portion of the St. Louis-St. Charles-Farmington, Missouri-Illinois Area to Attainment of the 2008 Ozone Standard

AGENCY: Environmental Protection Agency (EPA).

ACTION: Proposed rule.

SUMMARY: The Environmental Protection Agency (EPA) is proposing to find that the St. Louis-St. Charles-Farmington, Missouri-Illinois (MO-IL) area, “the St. Louis area,” is attaining the 2008 ozone National Ambient Air Quality Standard (NAAQS or standard) based on 2014-2016 monitoring data. EPA is further proposing to redesignate the Illinois portion of the St. Louis area, “the Metro-East area,” to attainment for the 2008 ozone NAAQS because the Metro-East area meets the statutory requirements for redesignation under the Clean Air Act (CAA). (EPA will address the Missouri portion of the St. Louis area in a separate rulemaking action.) The St. Louis area includes Madison, Monroe and St. Clair Counties in Illinois (the Metro-East area), and Franklin, Jefferson, St. Charles, and St. Louis Counties and the City of St. Louis in Missouri. The Illinois Environmental Protection Agency (IEPA) submitted a request to redesignate the Metro-East area on May 8, 2017. EPA is also proposing to approve, as a revision to the Illinois State Implementation Plan (SIP), the State's plan for maintaining the 2008 ozone standard through 2030 in the St. Louis area. Finally, EPA finds adequate and is proposing to approve, as a SIP revision, the State's 2030 volatile organic compound (VOC) and oxides of nitrogen (NOX) Motor Vehicle Emission Budgets (MVEBs) for the Metro-East area.

DATES: Comments must be received on or before January 8, 2018.

ADDRESSES: Submit your comments, identified by Docket ID No. EPA-R05-OAR-2017-0277 at http://www.regulations.gov or via email to aburano.douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the Web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Kathleen D'Agostino, Environmental Scientist, Attainment Planning and Maintenance Section, Air Programs Branch (AR-18J), Environmental Protection Agency, Region 5, 77 West Jackson Boulevard, Chicago, Illinois 60604, (312) 886-1767, dagostino.kathleen@epa.gov.

SUPPLEMENTARY INFORMATION: Throughout this document whenever “we,” “us,” or “our” is used, we mean EPA. This supplementary information section is arranged as follows:

I. What are the actions EPA is proposing?

II. What is the background for these actions?

III. What are the criteria for redesignation?

IV. What is EPA's analysis of IEPA's redesignation request?

A. Has the St. Louis area attained the 2008 ozone NAAQS?

B. Has Illinois met all applicable requirements of section 110 and part D of the CAA for the Metro-East area, and does the Metro-East area have a fully approved SIP under section 110(k) of the CAA?

C. Are the air quality improvements in the St. Louis area due to permanent and enforceable emission reductions?

D. Does Illinois have a fully approvable ozone maintenance plan for the St. Louis area?

V. Has Illinois adopted approvable motor vehicle emission budgets?

A. What are motor vehicle emission budgets?

B. What is the status of EPA's adequacy determination for the proposed VOC and NOX MVEBs for the Metro-East area?

C. What is a safety margin and how did Illinois allocate it?

VI. Proposed Actions

VII. Statutory and Executive Order reviews

I. What are the actions EPA is proposing?

EPA is proposing to take several related actions. EPA is proposing to determine that the St. Louis nonattainment area is attaining the 2008 ozone standard, based on quality-assured and certified monitoring data for 2014-2016 and that the Metro-East area has met the requirements for redesignation under section 107(d)(3)(E) of the CAA. EPA is thus proposing to change the legal designation of the Metro-East area from nonattainment to attainment for the 2008 ozone standard.

EPA is also proposing to approve, as a revision to the Illinois SIP, the State's maintenance plan for the area (such approval being one of the CAA criteria for redesignation to attainment status). The maintenance plan is designed to keep the St. Louis area in attainment of the 2008 ozone NAAQS through 2030.

Finally, EPA finds adequate and is proposing to approve into the SIP the newly-established 2030 MVEBs for the Metro-East area. The adequacy comment period for the MVEBs began on August 21, 2017, with EPA's posting of the availability of Illinois' submittal on EPA's Adequacy Web site (at https://www.epa.gov/state-and-local-transportation/adequacy-review-state-implementation-plan-sip-submissions-conformity). The adequacy comment period for these MVEBs ended on September 20, 2017. EPA did not receive any adverse comments on this submittal during the adequacy comment period. In a letter dated September 26, 2017, EPA informed IEPA that the 2030 MVEBs are adequate for use in transportation conformity analyses. Please see section V.B. of this rulemaking, “What is the status of EPA's adequacy determination for the proposed VOC and NOX MVEBs for the Metro-East area?,” for further explanation of this process.

II. What is the background for these actions?

EPA has determined that ground-level ozone is detrimental to human health. On March 12, 2008, EPA promulgated a revised 8-hour ozone NAAQS of 0.075 parts per million (ppm). See 73 FR 16436 (March 27, 2008). Under EPA's regulations at 40 CFR part 50, the 2008 8-hour ozone NAAQS is attained in an area when the 3-year average of the annual fourth highest daily maximum 8-hour average concentration is equal to or less than 0.075 ppm, when truncated after the thousandth decimal place, at all of the ozone monitoring sites in the area. See 40 CFR 50.15 and appendix P to 40 CFR part 50.

Upon promulgation of a new or revised NAAQS, section 107(d)(1)(B) of the CAA requires EPA to designate as nonattainment any areas that are violating the NAAQS, based on the most recent three years of quality-assured ozone monitoring data. The St. Louis area was designated as a marginal nonattainment area for the 2008 ozone NAAQS on May 21, 2012 (77 FR 30088) (effective July 20, 2012) based on 2008-2010 monitoring data.

In a final implementation rule for the 2008 ozone NAAQS (SIP Requirements Rule),¹ EPA established ozone standard attainment dates based on table 1 of section 181(a) of the CAA. The rule established an attainment date three years after the July 20, 2012, effective designation date for areas classified as marginal nonattainment for the 2008 ozone NAAQS. Therefore, the attainment date for the St. Louis area was July 20, 2015. On May 4, 2016 (81 FR 26697), based on EPA's evaluation and determination that the area met the attainment date extension criteria of CAA section 181(8)(5), EPA granted the St. Louis area a 1-year extension of the marginal area attainment date to July 20, 2016. On June 27, 2016 (81 FR 41444), in accordance with section 181(b)(2)(A) of the CAA and the provisions of the SIP Requirements Rule (40 CFR 51.1103), EPA made a determination that the St. Louis area attained the standard by the July 20, 2016, attainment date for the 2008 ozone NAAQS. EPA's determination was based upon three years of complete, quality-assured and certified data for the 2013-2015 time period.

¹ This rule, titled “Implementation of the 2008 National Ambient Air Quality Standards for Ozone: State Implementation Plan Requirements” and published at 80 FR 12264 (March 6, 2015), addresses nonattainment area SIP requirements for the 2008 ozone NAAQS, including requirements pertaining to attainment demonstrations, reasonable further progress (RFP), reasonably available control technology (RACT), reasonably available control measures (RACM), new source review (NSR), emission inventories, and the timing requirements for SIP submissions and compliance with emission control measures in the SIP. This rule also addresses the revocation of the 1997 ozone NAAQS and the anti-backsliding requirements that apply when the 1997 ozone NAAQS is revoked.

On May 8, 2017, Illinois submitted to EPA a request to redesignate the Illinois portion of the St. Louis area, also called the Metro-East area, to attainment for the 2008 ozone NAAQS, and to approve the maintenance place for the area, including the 2030 MVEBs, as a revision to the Illinois SIP.

III. What are the criteria for redesignation?

Section 107(d)(3)(E) of the CAA allows redesignation of an area to attainment of the NAAQS provided that: (1) The Administrator (EPA) determines that the area has attained the NAAQS; (2) the Administrator has fully approved the applicable implementation plan for the area under section 110(k) of the CAA; (3) the Administrator determines that the improvement in air quality is due to permanent and enforceable reductions in emissions resulting from implementation of the applicable SIP, applicable Federal air pollutant control regulations, and other permanent and enforceable emission reductions; (4) the Administrator has fully approved a maintenance plan for the area as meeting the requirements of section 175A of the CAA; and (5) the state containing the area has met all requirements applicable to the area for the purposes of redesignation under section 110 and part D of the CAA.

On April 16, 1992, EPA provided guidance on redesignations in the General Preamble for the Implementation of Title I of the CAA Amendments of 1990 (57 FR 13498) and supplemented this guidance on April 28, 1992 (57 FR 18070). EPA has provided further guidance on processing redesignation requests in the following documents:

1. “Ozone and Carbon Monoxide Design Value Calculations,” Memorandum from Bill Laxton. Director, Technical Support Division, June 18, 1990;

2. “Maintenance Plans for Redesignation of Ozone and Carbon Monoxide Nonattainment Areas,” Memorandum from G.T. Helms, Chief, Ozone/Carbon Monoxide Programs Branch, April 30, 1992;

3. “Contingency Measures for Ozone and Carbon Monoxide (CO) Redesignations,” Memorandum from G.T. Helms, Chief, Ozone/Carbon Monoxide Programs Branch, June 1, 1992;

4. “Procedures for Processing Requests to Redesignate Areas to Attainment,” Memorandum from John Calcagni, Director, Air Quality Management Division, September 4, 1992 (the “Calcagni Memorandum”);

5. “State Implementation Plan (SIP) Actions Submitted in Response to Clean Air Act (CAA) Deadlines,” Memorandum from John Calcagni, Director, Air Quality Management Division, October 28, 1992;

6. “Technical Support Documents (TSDs) for Redesignation of Ozone and Carbon Monoxide (CO) Nonattainment Areas,” Memorandum from G.T. Helms, Chief, Ozone/Carbon Monoxide Programs Branch, August 17, 1993;

7. “State Implementation Plan (SIP) Requirements for Areas Submitting Requests for Redesignation to Attainment of the Ozone and Carbon Monoxide (CO) National Ambient Air Quality Standards (NAAQS) On or After November 15, 1992,” Memorandum from Michael H. Shapiro, Acting Assistant Administrator for Air and Radiation, September 17, 1993;

8. “Use of Actual Emissions in Maintenance Demonstrations for Ozone and CO Nonattainment Areas,” Memorandum from D. Kent Berry, Acting Director, Air Quality Management Division, November 30, 1993;

9. “Part D New Source Review (Part D NSR) Requirements for Areas Requesting Redesignation to Attainment,” Memorandum from Mary D. Nichols, Assistant Administrator for Air and Radiation, October 14, 1994; and

10. “Reasonable Further Progress, Attainment Demonstration, and Related Requirements for Ozone Nonattainment Areas Meeting the Ozone National Ambient Air Quality Standard,” Memorandum from John S. Seitz, Director, Office of Air Quality Planning and Standards, May 10, 1995.

IV. What is EPA's analysis of IEPA's redesignation request?

A. Has the St. Louis area attained the 2008 ozone NAAQS?

For redesignation of a nonattainment area to attainment, the CAA requires EPA to determine that the area has attained the applicable NAAQS (CAA section 107(d)(3)(E)(i)). An area is attaining the 2008 ozone NAAQS if it meets the 2008 ozone NAAQS, as determined in accordance with 40 CFR 50.15 and appendix P of part 50, based on three complete, consecutive calendar years of quality-assured air quality data for all monitoring sites in the area. To attain the NAAQS, the three-year average of the annual fourth-highest daily maximum 8-hour average ozone concentrations (ozone design values) at each monitor must not exceed 0.075 ppm. The air quality data must be collected and quality-assured in accordance with 40 CFR part 58 and recorded in EPA's Air Quality System (AQS). Ambient air quality monitoring data for the 3-year period must also meet data completeness requirements. An ozone design value is valid if daily maximum 8-hour average concentrations are available for at least 90 percent of the days within the ozone monitoring seasons,² on average, for the three-year period, with a minimum data completeness of 75 percent during the ozone monitoring season of any year during the three-year period. See section 2.3 of appendix P to 40 CFR part 50.

² The ozone season is defined by state in 40 CFR 58 appendix D. For the 2013-2015 time period, the ozone season was April-October. Beginning in 2016, the ozone season is March-October. See 80 FR 65292, 65466-67 (October 26, 2015).

On June 27, 2016, in accordance with section 181(b)(2)(A) of the CAA and the provisions of the SIP Requirements Rule (40 CFR 51.1103), EPA made a determination that the St. Louis area attained the standard by its July 20, 2016 attainment date for the 2008 ozone NAAQS. (81 FR 41444). This determination was based upon three years of complete, quality-assured, and certified data for the 2013-2015 time period. In addition, EPA has reviewed the ozone monitoring data from monitoring sites in the St. Louis area for the 2014-2016 time period. These data, which are complete, quality-assured, and certified, demonstrate that the St. Louis area is attaining the 2008 ozone NAAQS. The annual fourth-highest 8-hour ozone concentrations and the 3-year average of these concentrations (ozone design values) for each monitoring site are summarized in Table 1.

Table 1—Annual 4th High Daily Maximum 8-Hour Ozone Concentrations and 3-Year Average of the 4th High Daily Maximum 8-Hour Ozone Concentrations for the St. Louis Area
State | County | Monitor | 2013 4th high (ppm) | 2014 4th high (ppm) | 2015 4th high (ppm) | 2016 4th high (ppm) | 2013-2015 average (ppm) | 2014-2016 average (ppm)
Illinois | Madison | 17-119-0008 | 0.072 | 0.072 | 0.069 | 0.073 | 0.071 | 0.071
|  | 17-119-1009 | 0.075 | 0.070 | 0.064 | 0.067 | 0.069 | 0.067
|  | 17-119-3007 | 0.069 | 0.070 | 0.069 | 0.075 | 0.069 | 0.071
|  | 17-119-9991 | 0.071 | 0.068 | 0.067 | 0.068 | 0.068 | 0.067
| St. Clair | 17-163-0010 | 0.066 | 0.067 | 0.066 | 0.073 | 0.066 | 0.068
Missouri | Jefferson | 29-099-0019 | 0.069 | 0.072 | 0.069 | 0.070 | 0.070 | 0.070
| St. Charles | 29-183-1002 | 0.071 | 0.072 | 0.070 | 0.075 | 0.071 | 0.072
|  | 29-183-1004 | 0.071 | 0.072 | 0.066 | 0.076 | 0.069 | 0.071
| St. Louis | 29-189-0005 | 0.067 | 0.065 | 0.065 | 0.067 | 0.065 | 0.065
|  | 29-189-0014 | 0.070 | 0.072 | 0.069 | 0.073 | 0.070 | 0.071
| St. Louis City | 29-510-0085 | 0.066 | 0.066 | 0.063 | 0.068 | 0.065 | 0.065

The 3-year ozone design values for 2013-2015 and 2014-2016 are 0.071 ppm and 0.072 ppm, respectively,³ which meet the criteria for attainment of the 2008 ozone NAAQS. Therefore, in today's action, EPA proposes to determine that the St. Louis area is attaining the 2008 ozone NAAQS based on complete, quality-assured and certified 2014-2016 ozone monitoring data.

³ The monitor ozone design value for the monitor with the highest 3-year averaged concentration.

EPA will not take final action to determine that the St. Louis area is attaining the NAAQS nor approve the redesignation of this area if the design value of a monitoring site in the area exceeds the NAAQS after proposal but prior to final approval of the redesignation. Preliminary 2017 data indicate that this area continues to attain the 2008 ozone NAAQS. As discussed in section IV.D.3. below, IEPA has committed to continue monitoring ozone in this area to verify maintenance of the ozone standard.

B. Has Illinois met all applicable requirements of section 110 and part D of the CAA for the Metro-East area, and does the Metro-East area have a fully approved SIP under section 110(k) of the CAA?

As criteria for redesignation of an area from nonattainment to attainment of a NAAQS, the CAA requires EPA to determine that the state has met all applicable requirements under section 110 and part D of title I of the CAA (see section 107(d)(3)(E)(v) of the CAA) and that the area has a fully approved SIP under section 110(k) of the CAA (see section 107(d)(3)(E)(ii) of the CAA). Illinois has met all applicable SIP requirements, for purposes of redesignation, under section 110 and part D of title I of the CAA (requirements specific to nonattainment areas for the 2008 ozone NAAQS). Additionally, all applicable requirements of the Illinois SIP for the area have been fully approved under section 110(k) of the CAA. In making these determinations, EPA ascertained which CAA requirements are applicable to the Metro-East area and the Illinois SIP and, if applicable, whether the required Illinois SIP elements are fully approved under section 110(k) and part D of the CAA. As discussed more fully below, SIPs must be fully approved only with respect to currently applicable requirements of the CAA.

The September 4, 1992 Calcagni memorandum (see “Procedures for Processing Requests to Redesignate Areas to Attainment,” Memorandum from John Calcagni, Director, Air Quality Management Division, September 4, 1992) describes EPA's interpretation of section 107(d)(3)(E)(v) of the CAA. Under this interpretation, a state and the area it wishes to redesignate must meet the relevant CAA requirements that are due prior to the state's submittal of a complete redesignation request for the area. See also the September 17, 1993, Michael Shapiro memorandum and 60 FR 12459, 12465-12466 (March 7, 1995) (redesignation of Detroit-Ann Arbor, Michigan to attainment of the 1-hour ozone NAAQS). Applicable requirements of the CAA that become due subsequent to the state's submittal of a complete request remain applicable until a redesignation to attainment is approved, but are not required as a prerequisite to redesignation. See section 175A(c) of the CAA. Sierra Club v. EPA, 375 F.3d 537 (7th Cir. 2004). See also 68 FR 25424, 25427 (May 12, 2003) (redesignation of the St. Louis/East St. Louis area to attainment of the 1-hour ozone NAAQS).

1. Illinois Has Met All Applicable Requirements of Section 110 and Part D of the CAA Applicable to the Metro-East Area for Purposes of Redesignation

a. Section 110 General Requirements for Implementation Plans

Section 110(a)(2) of the CAA contains the general requirements for a SIP. Section 110(a)(2) provides that the SIP must have been adopted by the state after reasonable public notice and hearing, and that, among other things, it must: (1) Include enforceable emission limitations and other control measures, means or techniques necessary to meet the requirements of the CAA; (2) provide for establishment and operation of appropriate devices, methods, systems and procedures necessary to monitor ambient air quality; (3) provide for implementation of a source permit program to regulate the modification and construction of stationary sources within the areas covered by the plan; (4) include provisions for the implementation of part C prevention of significant deterioration (PSD) and part D new source review (NSR) permit programs; (5) include provisions for stationary source emission control measures, monitoring, and reporting; (6) include provisions for air quality modeling; and, (7) provide for public and local agency participation in planning and emission control rule development.

Additionally, Section 110(a)(2)(D) of the CAA requires SIPs to contain measures to prevent sources in a state from significantly contributing to air quality problems in another state. To implement this provision, EPA has required certain states to establish programs to address transport of certain air pollutants, e.g., the NOX SIP call.⁴ However, like many of the 110(a)(2) requirements, the section 110(a)(2)(D) SIP requirements are not linked with a particular area's ozone designation and classification. EPA concludes that the SIP requirements linked with the area's ozone designation and classification are the relevant measures to evaluate when reviewing a redesignation request for the area. The section 110(a)(2)(D) requirements, where applicable, continue to apply to a state regardless of the designation of any one particular area within the state. Thus, these requirements are not applicable requirements for purposes of redesignation. See 65 FR 37890 (June 15, 2000), 66 FR 50399 (October 19, 2001), 68 FR 25418, 25426-25427 (May 13, 2003).

⁴ On October 27, 1992 (63 FR 57356), EPA issued a NOX SIP call requiring the District of Columbia and 22 states to reduce emissions of NOX in order to reduce the transport of ozone and ozone precursors. In compliance with EPA's NOX SIP Call, IEPA developed rules governing the control of NOX emissions from Electric Generating Units (EGUs), major non-EGU industrial boilers, major cement kilns, and internal combustion engines. EPA approved the Illinois rules as fulfilling Phase I of the NOX SIP Call on June 28, 2001 (66 FR 34382) and November 21, 2001 (66 FR 56454), and as meeting Phase II of the NOX SIP Call on June 26, 2009 (74 FR 30466).

Similarly, other section 110 elements that are neither connected with nonattainment plan submissions nor linked with an area's ozone attainment status are not applicable requirements for purposes of redesignation. The area will remain subject to these requirements after the area is redesignated to attainment of the 2008 ozone NAAQS. The section 110 and part D requirements which are linked with a particular area's designation and classification are the relevant measures to evaluate in reviewing a redesignation request. This approach is consistent with EPA's existing policy on applicability (i.e., for redesignations) of conformity and oxygenated fuels requirements, as well as with section 184 ozone transport requirements. See, e.g., Reading, Pennsylvania proposed and final rulemakings, 61 FR 53174-53176 (October 10, 1996) and 62 FR 24826 (May 7, 1997); Cleveland-Akron-Loraine, Ohio final rulemaking, 61 FR 20458 (May 7, 1996); and Tampa, Florida final rulemaking, 60 FR 62748 (December 7, 1995). See also the discussion of this issue in the Cincinnati, Ohio ozone redesignation (65 FR 37890, June 19, 2000), and the Pittsburgh, Pennsylvania ozone redesignation (66 FR 50399, October 19, 2001).

We have reviewed the Illinois SIP and conclude that it meets the general SIP requirements under section 110 of the CAA, to the extent those requirements are applicable for purposes of redesignation.⁵

⁵ On October 16, 2014 (79 FR 62042), EPA approved elements of the SIP submitted by Illinois to meet the requirements of section 110 for the 2008 ozone standard. The requirements of section 110(a)(2), however, are statewide requirements that are not linked to the 8-hour ozone nonattainment status of the St. Louis area. Therefore, EPA concludes that these infrastructure requirements are not applicable requirements for purposes of review of the State's 8-hour ozone redesignation request.

b. Part D Requirements

Section 172(c) of the CAA sets forth the basic requirements of air quality plans for states with nonattainment areas that are required to submit plans pursuant to section 172(b). Subpart 2 of part D, which includes section 182 of the CAA, establishes specific requirements for ozone nonattainment areas depending on the areas' nonattainment classifications.

The St. Louis area was classified as marginal under subpart 2 for the 2008 ozone NAAQS. As such, the area is subject to the subpart 1 requirements contained in section 172(c) and section 176. The area is also subject to the subpart 2 requirements contained in section 182(a) (marginal nonattainment area requirements). A thorough discussion of the requirements contained in section 172(c) and 182 can be found in the General Preamble for Implementation of Title I (57 FR 13498).

i. Subpart 1 Section 172 Requirements

As provided in subpart 2, for marginal ozone nonattainment areas such as the St. Louis area, the specific requirements of section 182(a) apply in lieu of the attainment planning requirements that would otherwise apply under section 172(c), including the attainment demonstration and reasonably available control measures (RACM) under section 172(c)(1), reasonable further progress (RFP) under section 172(c)(2), and contingency measures under section 172(c)(9). 42 U.S.C. 7511a(a).

Section 172(c)(3) requires submission and approval of a comprehensive, accurate and current inventory of actual emissions. This requirement is superseded by the inventory requirement in section 182(a)(1) discussed below.

Section 172(c)(4) requires the identification and quantification of allowable emissions for major new and modified stationary sources in an area, and section 172(c)(5) requires source permits for the construction and operation of new and modified major stationary sources anywhere in the nonattainment area. EPA approved the Illinois nonattainment NSR program as meeting the requirements of section 172(c)(4) and 172(c)(5) on December 17, 1992 (57 FR 59928), September 27, 1995 (60 FR 49780) and May 13, 2003 (68 FR 25504). Nonetheless, EPA has determined that, since PSD requirements will apply after redesignation, areas being redesignated need not comply with the requirement that a NSR program be approved prior to redesignation, provided that the area demonstrates maintenance of the NAAQS without part D NSR. A more detailed rationale for this view is described in a memorandum from Mary Nichols, Assistant Administrator for Air and Radiation, dated October 14, 1994, entitled, “Part D New Source Review Requirements for Areas Requesting Redesignation to Attainment.” Illinois has shown that the St. Louis area can demonstrate maintenance of the standard without part D NSR in effect; therefore, EPA concludes that the State need not have a fully approved part D NSR program prior to approval of the redesignation request. See rulemakings for Detroit, Michigan (60 FR 12467-12468, March 7, 1995); Cleveland-Akron-Lorain, Ohio (61 FR 20458, 20469-20470, May 7, 1996); Louisville, Kentucky (66 FR 53665, October 23, 2001); and Grand Rapids, Michigan (61 FR 31834-31837, June 21, 1996). EPA delegated the authority to implement the Federal PSD program to IEPA pursuant to 40 CFR 52.21. This delegated PSD program will become effective in the Metro-East area upon redesignation to attainment.

Section 172(c)(6) requires the SIP to contain control measures necessary to provide for attainment of the NAAQS. Because attainment has been reached, no additional measures are needed to provide for attainment.

Section 172(c)(7) requires the SIP to meet the applicable provisions of section 110(a)(2). As noted above, the Illinois SIP meets the requirements of section 110(a)(2) for purposes of redesignation.

ii. Section 176 Conformity Requirements

Section 176(c) of the CAA requires states to establish criteria and procedures to ensure that Federally supported or funded projects conform to the air quality planning goals in the applicable SIP. The requirement to determine conformity applies to transportation plans, programs and projects that are developed, funded or approved under title 23 of the United States Code (U.S.C.) and the Federal Transit Act (transportation conformity) as well as to all other Federally supported or funded projects (general conformity). State transportation conformity SIP revisions must be consistent with Federal conformity regulations relating to consultation, enforcement and enforceability that EPA promulgated pursuant to its authority under the CAA.

EPA interprets the conformity SIP requirements ⁶ as not applicable for purposes of evaluating a redesignation request under section 107(d) because state conformity rules are still required after redesignation and Federal conformity rules apply where state conformity rules have not been approved. See Wall v. EPA, 265 F.3d 426 (6th Cir. 2001) (upholding this interpretation); see also 60 FR 62748 (December 7, 1995) (redesignation of Tampa, Florida).

⁶ CAA section 176(c)(4)(E) requires states to submit revisions to their SIPs to reflect certain Federal criteria and procedures for determining transportation conformity. Transportation conformity SIPs are different from SIPs requiring the development of Motor Vehicle Emission Budgets (MVEBs), such as control strategy SIPs and maintenance plans, which are discussed in section V.A, below.

EPA approved Illinois's general conformity SIP on December 23, 1997 (62 FR 67000). Illinois does not have a Federally approved transportation conformity SIP. However, Illinois performs conformity analyses pursuant to EPA's Federal conformity rules. Illinois has submitted 2030 on-road MVEBs for the Metro-East area of 9.05 tons per day (tpd) VOC and 16.68 tpd NOX. Illinois must use these MVEBs in any conformity determination that is effective on or after the effective date of the maintenance plan approval.

iii. Section 182(a) Requirements

Section 182(a)(1) requires states to submit a comprehensive, accurate, and current inventory of actual emissions from sources of VOC and NOX emitted within the boundaries of the ozone nonattainment area. IEPA submitted a 2011 base year emissions inventory for the Metro-East area on September 3, 2014. EPA approved this emissions inventory as a revision to the Illinois SIP on March 7, 2016 (81 FR 11671).

Under section 182(a)(2)(A), states with ozone nonattainment areas that were designated prior to the enactment of the 1990 CAA amendments were required to submit, within six months of classification, all rules and corrections to existing VOC reasonably available control technology (RACT) rules that were required under section 172(b)(3) prior to the 1990 CAA amendments. The Metro-East area is not subject to the section 182(a)(2) RACT “fix up” requirement for the 2008 ozone NAAQS because it was designated as nonattainment for this standard after the enactment of the 1990 CAA amendments and because Illinois complied with this requirement for the Metro-East area under the prior 1-hour ozone NAAQS. See 59 FR 46562 (September 9, 1994).

Section 182(a)(2)(B) requires each state with a marginal ozone nonattainment area that implemented or was required to implement a vehicle inspection and maintenance (I/M) program prior to the 1990 CAA amendments to submit a SIP revision for an I/M program no less stringent than that required prior to the 1990 CAA amendments or already in the SIP at the time of the CAA amendments, whichever is more stringent. For the purposes of the 2008 ozone standard and IEPA's redesignation request for this standard, the Metro-East area is not subject to the section 182(a)(2)(B) requirement because the Metro-East area was designated as nonattainment for the 2008 ozone standard after the enactment of the 1990 CAA amendments.

The source permitting and offset requirements of section 182(a)(2)(C) and section 182(a)(4) are included in Illinois' nonattainment NSR program, which EPA approved on December 17, 1992 (57 FR 59928), September 27, 1995 (60 FR 49780) and May 13, 2003 (68 FR 25504). As discussed above, Illinois has demonstrated that the Metro-East area can demonstrate maintenance of the standard without part D NSR in effect; therefore, EPA concludes that the state need not have a fully approved part D NSR program prior to approval of the redesignation request. IEPA has been delegated the authority to implement the Federal PSD program, which will become effective in the Metro-East area upon redesignation to attainment.

Section 182(a)(3) requires states to submit periodic emission inventories and a revision to the SIP to require the owners or operators of stationary sources to annually submit emission statements documenting actual VOC and NOX emissions. As discussed below in section IV.D.4. of this proposed rule, Illinois will continue to update its emissions inventory at least once every three years consistent with the requirements of 40 CFR part 51, subpart A, and in 40 CFR 51.122. With regard to stationary source emission statements, EPA approved the Illinois emission statement rule on May 15, 2002 (67 FR 34614), which requires certain sources in ozone nonattainment areas to report annual VOC and NOX emissions. On May 9, 2017, Illinois certified that this approved SIP regulation remains in place and meets the emissions statement requirement for areas designated as nonattainment for the 2008 ozone standard. EPA approved the Illinois emissions statement certification SIP on July 11, 2017 (82 FR 31913).

Therefore, the Metro-East area has satisfied all applicable requirements for purposes of redesignation under section 110 and part D of title I of the CAA.

2. The Metro-East Area Has a Fully Approved SIP for Purposes of Redesignation Under Section 110(k) of the CAA

At various times, Illinois has adopted and submitted, and EPA has approved, provisions addressing the various SIP elements applicable for the ozone NAAQS. As discussed above, EPA has fully approved the Illinois SIP for the Metro-East area under section 110(k) for all requirements applicable for purposes of redesignation under the 2008 ozone NAAQS. EPA may rely on prior SIP approvals in approving a redesignation request (see the Calcagni memorandum at page 3; Southwestern Pennsylvania Growth Alliance v. Browner, 144 F.3d 984, 989-990 (6th Cir. 1998); Wall v. EPA, 265 F.3d 426), plus any additional measures it may approve in conjunction with a redesignation action (see 68 FR 25426 (May 12, 2003) and citations therein).

C. Are the air quality improvements in the St. Louis area due to permanent and enforceable emission reductions?

To redesignate an area from nonattainment to attainment, section 107(d)(3)(E)(iii) of the CAA requires EPA to determine that the air quality improvement in the area is due to permanent and enforceable reductions in emissions resulting from the implementation of the SIP and applicable Federal air pollution control regulations and other permanent and enforceable emission reductions. Illinois has demonstrated that the observed ozone air quality improvement in the St. Louis area is due to permanent and enforceable reductions in VOC and NOX emissions resulting from state measures approved as part of the SIP and Federal measures.

In making this demonstration, IEPA has calculated the change in emissions between 2011 and 2014. IEPA attributes the reduction in emissions and corresponding improvement in air quality over this time period to a number of regulatory control measures that have been implemented in the St. Louis area and upwind areas in recent years. In addition, IEPA provided an analysis to demonstrate the improvement in air quality was not due to unusually favorable meteorology. Based on the information summarized below, Illinois has adequately demonstrated that the improvement in air quality is due to permanent and enforceable emissions reductions.

1. Permanent and Enforceable Emission Controls Implemented

a. Regional NOX Controls

Clean Air Interstate Rule (CAIR)/Cross State Air Pollution Rule (CSAPR).

CAIR created regional cap-and-trade programs to reduce sulfur dioxide (SO2) and NOX emissions in 27 eastern states, including Illinois, that contributed to downwind nonattainment and maintenance of the 1997 8-hour ozone NAAQS and the 1997 fine particulate matter (PM2.5) NAAQS. See 70 FR 25162 (May 12, 2005). EPA approved Illinois's CAIR regulations into the Illinois SIP on October 10, 2007 (72 FR 58528). In 2008, the United States Court of Appeals for the District of Columbia Circuit (D.C. Circuit) initially vacated CAIR, North Carolina v. EPA, 531 F.3d 896 (D.C. Cir. 2008), but ultimately remanded the rule to EPA without vacatur to preserve the environmental benefits provided by CAIR, North Carolina v. EPA, 550 F.3d 1176, 1178 (D.C. Cir. 2008). On August 8, 2011 (76 FR 48208), acting on the D.C. Circuit's remand, EPA promulgated CSAPR to replace CAIR and to address the interstate transport of emissions contributing to nonattainment and interfering with maintenance of the two air quality standards covered by CAIR and the 2006 PM2.5 NAAQS. CSAPR requires substantial reductions of SO2 and NOX emissions from electric generating units (EGUs) in 28 states in the Eastern United States, including Illinois.

Implementation of CSAPR was scheduled to begin on January 1, 2012, when CSAPR's cap-and-trade programs would have superseded the CAIR cap and trade programs. Numerous parties filed petitions for review of CSAPR, and on December 30, 2011, the D.C. Circuit issued an order staying CSAPR pending resolution of the petitions and directing EPA to continue to administer CAIR. EME Homer City Generation, L.P. v. EPA, No. 11-1302 (D.C. Cir. Dec. 30, 2011), Order at 2.

On August 21, 2012, the D.C. Circuit issued its ruling, vacating and remanding CSAPR to EPA and once again ordering continued implementation of CAIR. EME Homer City Generation, L.P. v. EPA, 696 F.3d 7, 38 (D.C. Cir. 2012). The D.C. Circuit subsequently denied EPA's petition for rehearing en banc. EME Homer City Generation, L.P. v. EPA, No. 11-1302, 2013 WL 656247 (D.C. Cir. Jan. 24, 2013), at *1. EPA and other parties then petitioned the Supreme Court for a writ of certiorari, and the Supreme Court granted the petitions on June 24, 2013. EPA v. EME Homer City Generation, L.P., 133 S. Ct. 2857 (2013).

On April 29, 2014, the Supreme Court vacated and reversed the D.C. Circuit Court's decision regarding CSAPR, and remanded that decision to the D.C. Circuit Court to resolve remaining issues in accordance with its ruling. EPA v. EME Homer City Generation, L.P., 134 S. Ct. 1584 (2014). EPA moved to have the stay of CSAPR lifted in light of the Supreme Court decision. EME Homer City Generation, L.P. v. EPA, Case No. 11-1302, Document No. 1499505 (D.C. Cir. filed June 26, 2014). In its motion, EPA asked the D.C. Circuit to toll CSAPR's compliance deadlines by three years so that the Phase 1 emissions budgets applied in 2015 and 2016 (instead of 2012 and 2013), and the Phase 2 emissions budgets apply in 2017 and beyond (instead of 2014 and beyond). On October 23, 2014, the D.C. Circuit granted EPA's motion and lifted the stay of CSAPR, which was imposed on December 30, 2011. EME Homer City Generation, L.P. v. EPA, No. 11-1302 (D.C. Cir. Oct. 23, 2014), Order at 3. On December 3, 2014, EPA issued an interim final rule to clarify how EPA will implement CSAPR consistent with the D.C. Circuit Court's order granting EPA's motion requesting lifting the stay and tolling the rule's deadlines. See 79 FR 71663 (December 3, 2014) (interim final rulemaking). Consistent with that rule, EPA began implementing CSAPR on January 1, 2015. EPA expects that the implementation of CSAPR will preserve the reductions achieved by CAIR and result in additional SO2 and NOX emission reductions throughout the maintenance period.

b. Federal Emission Control Measures

Reductions in VOC and NOX emissions have occurred statewide and in upwind areas as a result of Federal emission control measures, with additional emission reductions expected to occur in the future. Federal emission control measures include the following.

Tier 2 Emission Standards for Vehicles and Gasoline Sulfur Standards. On February 10, 2000 (65 FR 6698), EPA promulgated Tier 2 motor vehicle emission standards and gasoline sulfur control requirements. These emission control requirements result in lower VOC and NOX emissions from new cars and light duty trucks, including sport utility vehicles. With respect to fuels, this rule required refiners and importers of gasoline to meet lower standards for sulfur in gasoline, which were phased in between 2004 and 2006. By 2006, refiners were required to meet a 30 ppm average sulfur level, with a maximum cap of 80 ppm. This reduction in fuel sulfur content ensures the effectiveness of low emission-control technologies. The Tier 2 tailpipe standards established in this rule were phased in for new vehicles between 2004 and 2009. EPA estimates that, when fully implemented, this rule will cut NOX and VOC emissions from light-duty vehicles and light-duty trucks by approximately 76 and 28 percent, respectively. NOX and VOC reductions from medium-duty passenger vehicles included as part of the Tier 2 vehicle program are estimated to be approximately 37,000 and 9,500 tons per year, respectively, when fully implemented. Some of these emission reductions occurred by the attainment years and additional emission reductions will occur throughout the maintenance period, as older vehicles are replaced with newer, compliant model years.

Heavy-Duty Diesel Engine Rules. In July 2000, EPA issued a rule for on-highway heavy-duty diesel engines that includes standards limiting the sulfur content of diesel fuel. Emissions standards for NOX, VOC and PM were phased in between model years 2007 and 2010. In addition, the rule reduced the highway diesel fuel sulfur content to 15 parts per million by 2007, leading to additional reductions in combustion NOX and VOC emissions. EPA has estimated future year emission reductions due to implementation of this rule. Nationally, EPA estimated that 2015 NOX and VOC emissions would decrease by 1,260,000 tons and 54,000 tons, respectively. Nationally, EPA estimated that 2030 NOX and VOC emissions will decrease by 2,570,000 tons and 115,000 tons, respectively. As projected by these estimates and demonstrated in the on-road emission modeling for the St. Louis area, some of these emission reductions occurred by the attainment years and additional emission reductions will occur throughout the maintenance period, as older vehicles are replaced with newer, compliant model years.

Nonroad Diesel Rule. On June 29, 2004 (69 FR 38958), EPA issued a rule adopting emissions standards for nonroad diesel engines and sulfur reductions in nonroad diesel fuel. This rule applies to diesel engines used primarily in construction, agricultural, and industrial applications. Emission standards are phased in for 2008 through 2015 model years based on engine size. The SO2 limits for nonroad diesel fuels were phased in from 2007 through 2012. EPA estimates that when fully implemented, compliance with this rule will cut NOX emissions from these nonroad diesel engines by approximately 90 percent. Some of these emission reductions occurred by the attainment years, and additional emission reductions will occur throughout the maintenance period as older engines are replaced with newer, compliant model years.

Nonroad Spark-Ignition Engines and Recreational Engine Standards. On November 8, 2002 (67 FR 68242), EPA adopted emission standards for large spark-ignition engines such as those used in forklifts and airport ground-service equipment; recreational vehicles such as off-highway motorcycles, all-terrain vehicles, and snowmobiles; and recreational marine diesel engines. These emission standards were phased in from model year 2004 through 2012. When fully implemented, EPA estimates an overall 72 percent reduction in VOC emissions from these engines and an 80 percent reduction in NOX emissions. Some of these emission reductions occurred by the attainment years and additional emission reductions will occur throughout the maintenance period as older vehicles are replaced with newer, compliant model years.

National Emission Standards for Hazardous Air Pollutants (NESHAP) for Reciprocating Internal Combustion Engines. On March 3, 2010 (75 FR 9648), EPA issued a rule to reduce hazardous air pollutants from existing diesel powered stationary reciprocating internal combustion engines, also known as compression ignition engines. Amendments to this rule were finalized on January 14, 2013 (78 FR 6674). EPA estimated that when this rule was fully implemented in 2013, NOX and VOC emissions from these engines would be reduced by approximately 9,600 and 36,000 tons per year, respectively.

Category 3 Marine Diesel Engine Standards. On April 30, 2010 (75 FR 22896), EPA issued emission standards for marine compression-ignition engines at or above 30 liters per cylinder. Tier 2 emission standards applied beginning in 2011, and are expected to result in a 15 to 25 percent reduction in NOX emissions from these engines. Final Tier 3 emission standards applied beginning in 2016 and are expected to result in approximately an 80 percent reduction in NOX from these engines. Some of these emission reductions occurred by the attainment years, and additional emission reductions will occur throughout the maintenance period as older engines are replaced with newer, compliant model years.

c. Control Measures Specific to the Metro-East Area

VOC RACT Rules. Illinois adopted several VOC RACT rules corresponding to the source categories covered in the Control Technique Guideline (CTG) documents issued by EPA in 2006, 2007, and 2008. Illinois adopted rules to control VOC emissions from the following source categories: Industrial cleaning solvents; flat wood paneling; flexible packaging printing lines; lithographic printing lines; letterpress printing lines; paper, film, and foil coatings; large appliance coatings; metal furniture coatings; miscellaneous metal and plastic parts coatings, automobile and light-duty truck assembly coatings; miscellaneous industrial adhesives; and, fiberglass boat manufacturing. EPA approved these rules into the Illinois SIP on March 23, 2012 (77 FR 16940).

Illinois Administrative Code (IAC) rule 219.187 controls VOC emissions from industrial solvent cleaning operations and required compliance by January 1, 2012. IEPA did not quantify the emission reductions expected from this category.

IAC rules 219.204-205, 219.207-208, 219.210-212, and 219.217-219.219 require the control of emissions from coating operations including flat wood paneling; large appliance coatings; metal furniture coatings; paper, film, and foil coatings; miscellaneous metal and plastic parts coatings; and automobile and light-duty truck assembly coatings. Compliance with the regulations pertaining to paper, film, and foil coatings; large appliance coatings; and metal furniture coatings was required by May 1, 2011.⁷ IEPA estimated a 20% reduction in VOC emissions from implementation of the paper, film and foil coatings rule, but did not quantify emission reductions from the large appliance coating or metal furniture coating rules. Compliance with the regulations pertaining to flat wood paneling, miscellaneous metal and plastic parts coatings, and automobile and light-duty truck assembly coatings was required by May 1, 2012. IEPA estimated a 60% and 35% reduction in VOC emissions from flat wood paneling coatings and miscellaneous metal and plastic parts coatings, respectively, due to the implementation of these rules. IEPA did not quantify the reduction in VOC emissions due to the implementation of automobile and light-duty truck assembly coatings regulations.

⁷ While VOC emission reductions from these source categories may not be evident when comparing the 2011 and 2014 emission inventories because of the regulatory compliance date, the reductions from these permanent and enforceable requirements occurred after the 2008-2010 time period EPA used to designate the St. Louis area as nonattainment for the 2008 ozone standard, thus contributing to the improvement in air quality.

IAC rules 219.401-404 control VOC emissions from flexible package printing lines; 219.405-411 control VOC emissions from lithographic printing lines; and 219.412-417 control VOC emissions from letterpress printing lines. These rules required compliance by August 1, 2010.⁸ IEPA estimated a 25% reduction in VOC emissions from lithographic printing lines and a 30% reduction in VOC emissions from letterpress printing lines, but did not quantify the emission reductions expected from flexible packaging printing lines.

⁸ While VOC emission reductions from these source categories may not be evident when comparing the 2011 and 2014 emission inventories because the regulatory compliance date occurred in 2010, the reductions primarily occurred after the 2008-2010 time period EPA used to designate the St. Louis area as nonattainment for the 2008 ozone standard, thus contributing to the improvement in air quality.

IAC rules 219.890-894 control VOC emissions from fiberglass boat manufacturing and required compliance by May 1, 2012. IEPA did not identify a reduction in VOC emissions from this source category. IAC rules 219.900-904 control VOC emissions from miscellaneous industrial adhesives and required compliance by May 1, 2012. IEPA estimated a 40% reduction in VOC emissions from this source category.

Consumer and Commercial Products and Architectural and Industrial Maintenance Coatings Rules. Illinois adopted regulations to control emissions from consumer and commercial products and architectural and industrial maintenance coatings on June 8, 2009, and amended them to include additional product categories and emission limits on May 4, 2012. Consumer and commercial products are regulated under IAC 223.200-285, and architectural and industrial maintenance coatings are regulated under IAC 223.300-370. EPA approved these rules into the Illinois SIP on May 6, 2013 (78 FR 26258). Compliance with the original rules was required by July 1, 2009, and compliance for the additional product categories was required by July 1, 2012. Illinois estimated an 18% reduction in VOC emissions from consumer and commercial products and architectural and industrial maintenance coatings due to implementation of these rules.

Illinois Multi Pollutant Standards (MPS) and Combined Pollutant Standards (CPS) Rules. The Illinois MPS and CPS rules, IAC 225.233 and 225.291-296, are designed to control mercury emissions from coal-fired electric generating units, and also control NOX emissions. Illinois adopted these regulations on June 26, 2009, with compliance required by January 1, 2012. These rules were approved by EPA on July 6, 2012 (77 FR 39943). IEPA estimated a 59 percent reduction in NOX from these sources statewide from the implementation of these rules.

2. Emission Reductions

Illinois is using the 2011 base year emissions inventory, approved by EPA as meeting the requirements of CAA Section 182(a)(1), as the nonattainment inventory. See 81 FR 11671 (March 7, 2016). Although 2008-2010 ozone monitoring data was used to designate the St. Louis area as nonattainment, the area continued to monitor nonattainment in 2011; therefore, 2011 is an appropriate year to use as the nonattainment inventory.

For the attainment inventory, Illinois is using 2014, one of the years the St. Louis area monitored attainment of the 2008 ozone standard. IEPA compiled point source emission information from 2014 annual emission reports submitted by sources. IEPA calculated area source emissions primarily using an emission factor multiplied by an activity rate (e.g., population, employment, amount of fuel burned, etc.).⁹ IEPA calculated onroad mobile source emissions using EPA's MOVES2014a emissions model, with vehicle miles traveled (VMT) data provided by the Illinois Department of Transportation (IDOT). IEPA calculated non-road mobile source emissions using EPA's MOVES2014a emissions model, and calculated aircraft emissions using the Emissions and Dispersion Modeling System (EDMS) model. Emissions from locomotives were grown from the 2011 inventory. Commercial marine vessel emissions were provided by the Lake Michigan Air Directors Consortium (LADCO).

⁹ The 2014 inventory included additional categories not calculated in the 2011 inventory. These categories include oil and gas production, oil exploration, and agricultural field burning. While emissions from these categories may be significant state-wide, IEPA has indicated that these emissions are very minor for the Metro-East area.

Using the inventories described above, along with 2011 and 2014 emissions inventories provided by the Missouri Department of Natural Resources (MDNR) for the Missouri portion of the St. Louis area, IEPA's submittal documents changes in VOC and NOX emissions from 2011 to 2014. Subsequent to IEPA's submittal, Missouri submitted corrections to its 2014 and 2030 emissions inventories for the Missouri portion of the St. Louis area. These revisions are reflected in the emissions data for the St. Louis area shown in Tables 2 through 5.

Table 2—St. Louis Area VOC and NOX Emissions for Nonattainment Year 2011
in Tons per Summer Day [TPSD]
| VOC: Illinois | VOC: Missouri | VOC: Area total | NOX: Illinois | NOX: Missouri | NOX: Area total
Point | 10.80 | 14.58 | 25.38 | 26.18 | 90.68 | 116.86
Area | 18.12 | 72.77 | 90.89 | 1.23 | 5.60 | 6.83
On-road | 11.44 | 38.00 | 49.44 | 34.14 | 124.21 | 158.35
Nonroad | 8.49 | 39.03 | 47.52 | 17.17 | 47.55 | 64.72
Total | 48.86 | 164.38 | 213.24 | 78.72 | 268.04 | 346.76

Table 3—St. Louis Area VOC and NOX Emissions for Attainment Year 2014 [TPSD]
| VOC: Illinois | VOC: Missouri | VOC: Area total | NOX: Illinois | NOX: Missouri | NOX: Area total
Point | 9.38 | 13.86 | 23.24 | 23.29 | 81.70 | 104.99
Area | 19.06 | 69.81 | 88.87 | 1.53 | 6.47 | 8.00
On-road | 10.11 | 38.21 | 48.32 | 26.94 | 111.76 | 138.70
Nonroad | 7.47 | 33.42 | 40.89 | 24.62 | 38.44 | 63.06
Total | 46.02 | 155.30 | 201.32 | 76.38 | 238.37 | 314.75

Table 4—Change in VOC and NOX Emissions Between 2011 and 2014 for the Metro-East Area [TPSD]
| VOC: 2011 | VOC: 2014 | VOC: Net change (2011-2014) | NOX: 2011 | NOX: 2014 | NOX: Net change (2011-2014)
Point | 10.80 | 9.38 | −1.42 | 26.18 | 23.29 | −2.89
Area | 18.12 | 19.06 | 0.94 | 1.23 | 1.53 | 0.30
On-road | 11.44 | 10.11 | −1.33 | 34.14 | 26.94 | −7.20
Nonroad | 8.49 | 7.47 | −1.02 | 17.17 | 24.62 | 7.45
Total | 48.86 | 46.02 | −2.84 | 78.72 | 76.38 | −2.34

Table 5—Change in VOC and NOX Emissions Between 2011 and 2014 for the Entire St. Louis Area [TPSD]
| VOC: 2011 | VOC: 2014 | VOC: Net change (2011-2014) | NOX: 2011 | NOX: 2014 | NOX: Net change (2011-2014)
Point | 25.38 | 23.24 | −2.14 | 116.86 | 104.99 | −11.87
Area | 90.89 | 88.87 | −2.02 | 6.83 | 8.00 | 1.17
On-road | 49.44 | 48.32 | −1.12 | 158.35 | 138.70 | −19.65
Nonroad | 47.52 | 40.89 | −6.63 | 64.72 | 63.06 | −1.66
Total | 213.24 | 201.32 | −11.92 | 346.76 | 314.75 | −32.01

Table 5 shows that emissions of VOC and NOX in the St. Louis area were reduced by 11.92 TPSD and 32.01 TPSD, respectively, between 2011 and 2014. As shown in Table 4, the Metro-East area alone reduced VOC and NOX emissions by 2.84 TPSD and 2.34 TPSD, respectively, between 2011 and 2014.

As discussed above, Illinois identified numerous Federal rules and state rules approved into the Illinois SIP that resulted in the reduction of VOC and NOX emissions from 2011 to 2014. Therefore, Illinois has shown that the air quality improvements in the St. Louis area are due to permanent and enforceable emission reductions.

3. Meteorology

To further support IEPA's demonstration that the improvement in air quality is due to permanent and enforceable emission reductions, LADCO performed a meteorology analysis. The analysis concluded that the improvement in air quality was not due to favorable meteorology. LADCO conducted a classification and regression tree (CART) analysis with 2000 through 2015 data from three Metro-East area ozone sites. The goal of the analysis was to determine the meteorological and air quality conditions associated with ozone episodes, and construct trends for the days identified as sharing similar meteorological conditions.

LADCO developed regression trees for the three monitors to classify each summer day by its ozone concentration and associated meteorological conditions. By grouping days with similar meteorology, the influence of meteorological variability on the underlying trend in ozone concentrations is partially removed, and the remaining trend is presumed to be due to trends in precursor emissions or other non-meteorological influences. The CART analysis showed the resulting trends in ozone concentrations declining over the period examined, supporting the conclusion that the improvement in air quality was not due to unusually favorable meteorology.

D. Does Illinois have a fully approvable ozone maintenance plan for the Metro-East area?

As one of the criteria for redesignation to attainment, section 107(d)(3)(E)(iv) of the CAA requires EPA to determine that the area has a fully approved maintenance plan pursuant to section 175A of the CAA. Section 175A of the CAA sets forth the elements of a maintenance plan for areas seeking redesignation from nonattainment to attainment. Under section 175A, the maintenance plan must demonstrate continued attainment of the NAAQS for at least 10 years after the Administrator approves a redesignation to attainment. Eight years after the redesignation, the state must submit a revised maintenance plan which demonstrates that attainment of the NAAQS will continue for an additional 10 years beyond the initial 10 year maintenance period. To address the possibility of future NAAQS violations, the maintenance plan must contain contingency measures, as EPA deems necessary, to assure prompt correction of the future NAAQS violation.

The Calcagni Memorandum provides further guidance on the content of a maintenance plan, explaining that a maintenance plan should address five elements: (1) An attainment emission inventory; (2) a maintenance demonstration; (3) a commitment for continued air quality monitoring; (4) a process for verification of continued attainment; and (5) a contingency plan.

In conjunction with its request to redesignate the Metro-East area to attainment for the 2008 ozone standard, IEPA submitted, as a SIP revision, a plan to provide for maintenance of the 2008 ozone standard through 2030, more than 10 years after the expected effective date of the redesignation to attainment. As discussed below, EPA proposes to find that the Illinois ozone maintenance plan includes the necessary components and approve the maintenance plan as a revision to the Illinois SIP.

1. Attainment Inventory

EPA is proposing to determine that the St. Louis area has attained the 2008 ozone NAAQS based on monitoring data for the period of 2014-2016. IEPA selected 2014 as the year to establish attainment emission levels for VOC and NOX. IEPA's 2014 attainment emissions inventory identifies the levels of emissions in the St. Louis area that are sufficient to attain the 2008 ozone NAAQS. The basis of the attainment year emissions was discussed above in section IV.C.2. of this proposed rule. Additionally, the attainment level emissions, by source category, are summarized in Table 3 above. The attainment emissions inventory is consistent with the Calcagni memo.

2. Has the state documented maintenance of the ozone standard in the St. Louis area?

Illinois has demonstrated maintenance of the 2008 ozone standard through 2030 by ensuring that current and future emissions of VOC and NOX for the St. Louis area remain at or below attainment year emission levels through the use of emission inventories. A maintenance demonstration need not be based on modeling. See Wall v. EPA, 265 F.3d 426 (6th Cir. 2001), Sierra Club v. EPA, 375 F. 3d 537 (7th Cir. 2004). See also 66 FR 53094, 53099-53100 (October 19, 2001), 68 FR 25413, 25430-25432 (May 12, 2003).

Illinois is using emissions inventories for the years 2020 and 2030 to demonstrate maintenance. 2030 is more than 10 years after the expected effective date of the redesignation to attainment, and 2020 was selected to demonstrate that emissions are not expected to increase in the interim between the attainment year and the final maintenance year.

To develop the 2020 and 2030 inventories, the state collected data from the EPA's Air Emissions Modeling platform (2011v6.2) inventories for years 2011, 2017 and 2025. For year 2020, emissions for point and area source sectors, as well as nonroad mobile categories not calculated by the MOVES model, were derived by interpolating between 2017 and 2025. For year 2030, emissions for point and area source sectors, as well as nonroad mobile categories not calculated by the MOVES model, were derived using the TREND function in Excel. Finally, onroad and nonroad mobile source emissions were calculated for 2020 and 2030 using the MOVES2014a model. Total VMT for 2020 and 2030 were assumed to increase at a rate of 1.012 percent per year from 2014. Emissions data are shown in Tables 6 through 9 below.

Table 6—St. Louis Area VOC and NOX Emissions for Interim Maintenance Year 2020 [TPSD]
| VOC: Illinois | VOC: Missouri | VOC: Area total | NOX: Illinois | NOX: Missouri | NOX: Area total
Point | 9.03 | 14.32 | 23.35 | 16.81 | 88.60 | 105.41
Area | 18.40 | 68.86 | 87.26 | 1.51 | 16.87 | 18.38
Onroad | 6.38 | 26.64 | 33.02 | 13.22 | 46.42 | 59.64
Nonroad | 5.65 | 28.71 | 34.36 | 18.45 | 28.27 | 46.72
Total | 39.47 | 138.53 | 178.00 | 49.99 | 180.16 | 230.15

Table 7—St. Louis Area VOC and NOX Emissions for Maintenance Year 2030 [TPSD]
| VOC: Illinois | VOC: Missouri | VOC: Area total | NOX: Illinois | NOX: Missouri | NOX: Area total
Point | 8.53 | 14.31 | 22.84 | 16.93 | 93.08 | 110.01
Area | 18.05 | 68.80 | 86.85 | 1.51 | 13.03 | 14.54
Onroad | 3.75 | 18.42 | 22.17 | 6.70 | 25.57 | 32.27
Nonroad | 5.09 | 30.01 | 35.10 | 11.31 | 29.90 | 41.21
Total | 35.43 | 131.54 | 166.97 | 36.46 | 161.58 | 198.04

Table 8—Change in VOC and NOX Emissions Between 2014 and 2030 for the Metro-East Area [TPSD]
| VOC: 2014 | VOC: 2020 | VOC: 2030 | VOC: Net change (2014-2030) | NOX: 2014 | NOX: 2020 | NOX: 2030 | NOX: Net change (2014-2030)
Point | 9.38 | 9.03 | 8.53 | −0.85 | 23.29 | 16.81 | 16.93 | −6.36
Area | 19.06 | 18.40 | 18.05 | −1.01 | 1.53 | 1.51 | 1.51 | −0.02
Onroad | 10.11 | 6.38 | 3.75 | −6.36 | 26.94 | 13.22 | 6.70 | −20.24
Nonroad | 7.47 | 5.65 | 5.09 | −2.38 | 24.62 | 18.45 | 11.31 | −13.31
Total | 46.02 | 39.47 | 35.43 | −10.59 | 76.38 | 49.99 | 36.46 | −39.92

Table 9—Change in VOC and NOX Emissions Between 2014 and 2030 for the Entire St. Louis Area [TPSD]
| VOC: 2014 | VOC: 2020 | VOC: 2030 | VOC: Net change (2014-2030) | NOX: 2014 | NOX: 2020 | NOX: 2030 | NOX: Net change (2014-2030)
Point | 23.24 | 23.35 | 22.84 | −0.40 | 104.99 | 105.41 | 110.01 | 5.02
Area | 88.87 | 87.26 | 86.85 | −2.02 | 8.00 | 18.38 | 14.54 | 6.54
Onroad | 48.32 | 33.02 | 22.17 | −26.15 | 138.70 | 59.64 | 32.27 | −106.43
Nonroad | 40.89 | 34.36 | 35.10 | −5.79 | 63.06 | 46.72 | 41.21 | −21.85
Total | 201.32 | 178.00 | 166.97 | −34.35 | 314.75 | 230.15 | 198.04 | −116.71

In summary, the maintenance demonstration for the St. Louis area shows maintenance of the 2008 ozone standard by providing emissions information to support the demonstration that future emissions of VOC and NOX will remain at or below 2014 emission levels when taking into account both future source growth and implementation of future controls. Table 9 shows VOC and NOX emissions in the St. Louis area are projected to decrease by 34.35 TPSD and 116.71 TPSD, respectively, between 2014 and 2030. As shown in Table 8, VOC and NOX emissions in the Metro-East portion of the area alone are projected to decrease by 10.59 TPSD and 39.92 TPSD, respectively, between 2014 and 2030.

3. Continued Air Quality Monitoring

IEPA has committed to continue to monitor ozone levels according to an EPA approved monitoring plan to ensure maintenance of the 2008 ozone standard. Illinois remains obligated to meet monitoring requirements and continue to quality assure monitoring data in accordance with 40 CFR part 58, and to enter all data into AQS in accordance with Federal guidelines.

4. Verification of Continued Attainment

The State of Illinois has the legal authority to enforce and implement the requirements of the maintenance plan for the Metro-East area. This includes the authority to adopt, implement, and enforce any subsequent emission control measures determined to be necessary to correct future ozone attainment problems.

Verification of continued attainment is accomplished through operation of the ambient ozone monitoring network and the periodic update of the area's emissions inventory. IEPA has committed to continue monitoring ozone levels according to an EPA approved monitoring plan. Should changes in the location of an ozone monitor become necessary, IEPA will work with EPA to ensure the adequacy of the monitoring network. IEPA has further committed to continue to quality assure the monitoring data to meet the requirements of 40 CFR part 58 and enter all data into AQS in accordance with Federal guidelines.

In addition, to track future levels of emissions, IEPA will continue to develop and submit to EPA updated emission inventories for all source categories at least once every three years, consistent with the requirements of 40 CFR part 51, subpart A, and in 40 CFR 51.122. The Consolidated Emissions Reporting Rule (CERR) was promulgated by EPA on June 10, 2002 (67 FR 39602). The CERR was replaced by the Annual Emissions Reporting Requirements (AERR) on December 17, 2008 (73 FR 76539). The most recent triennial inventory for Illinois was compiled for 2014. Point source facilities covered by the Illinois emission statement rule will continue to submit VOC and NOX emissions on an annual basis as required by 35 Ill. Adm. Code Part 254.

5. What is the contingency plan for the St. Louis area?

Section 175A of the CAA requires that the state must adopt a maintenance plan, as a SIP revision, that includes such contingency measures as EPA deems necessary to assure that the state will promptly correct a violation of the NAAQS that occurs after redesignation of the area to attainment of the NAAQS. The maintenance plan must identify: The contingency measures to be considered and, if needed for maintenance, adopted and implemented; a schedule and procedure for adoption and implementation; and, a time limit for action by the state. The state should also identify specific indicators to be used to determine when the contingency measures need to be considered, adopted, and implemented. The maintenance plan must include a commitment that the state will implement all measures with respect to the control of the pollutant that were contained in the SIP before redesignation of the area to attainment in accordance with section 175A(d) of the CAA.

As required by section 175A of the CAA, Illinois has adopted a contingency plan for the St. Louis area to address possible future ozone air quality problems. The contingency plan adopted by Illinois has two levels of response, Level I and Level II.

A Level I response is triggered in the event that: (1) The fourth highest 8-hour ozone concentration at any monitoring site in the St. Louis area exceeds 0.075 parts ppm in any year, or (2) VOC or NOX emissions in the Metro-East area increase more than 5% above the levels contained in the 2014 attainment year emissions inventory. IEPA will work with the Missouri Department of Natural Resources (MDNR) to evaluate the causes of high ozone levels or emissions trends and to determine appropriate control measures needed to ensure continued attainment of the ozone standard. Control measures selected under a Level I response must be adopted within 18 months after a determination is made and implemented within 24 months of adoption.

A Level II response is triggered in the event that a violation of the 2008 ozone standard is monitored within the St. Louis area. To select appropriate corrective measures, IEPA will work with the MDNR to conduct a comprehensive study to determine the causes of the violation and the control measures necessary to mitigate the problem. Implementation of necessary controls in response to a Level II trigger must take place as expeditiously as possible, but in no event later than 18 months after IEPA makes a determination, based on quality-assured ambient monitoring data, that a violation of the NAAQS has occurred.

IEPA included the following list of potential contingency measures that could be implemented if a Level I or Level II response is triggered:

a. Continued phasing in of Mercury and Air Toxics Standards, Reciprocating Internal Combustion Engines NESHAP and Industrial/Commercial/Institutional Boilers and Process Heaters NESHAP;

b. CSAPR update after promulgation by EPA;

c. NESHAP risk and technology review including: Mineral Wool Production 40 CFR 63 subpart DDD, Ferroalloys Production 40 CFR 63 subpart XXX, Petroleum Refineries 40 CFR 63 subparts CC and UUU;

d. New Source Performance Standards—Petroleum Refineries 40 CFR subpart Ja;

e. Broader geographic applicability of existing measures;

f. Implementation of oil and gas sector emission guidelines, once finalized by EPA;

g. Conversion of coal-fired EGUs to natural gas and from baseload units to intermittent units;

h. Implementation of ozone transport commission model rules for above ground storage tanks;

i. Implementation of the Clean Power Plan, once stay is lifted;

j. Implementation of the 2017 light-duty vehicle greenhouse gas and corporate average fuel economy standards;

k. Mobile source air toxics rule;

l. Tier 3 Vehicle emissions and fuel standards;

m. Heavy-duty vehicle greenhouse gas rules;

n. Regulations on the sale of aftermarket catalytic converters;

o. Adopting standards and limitations for organic material emissions for area sources (consumer and commercial products and architectural and industrial maintenance coatings rule), current California commercial and consumer products—aerosol adhesive coatings, dual purpose air freshener/disinfectant, etc.

To qualify as a contingency measure, emissions reductions from that measure must not be factored into the emissions projections used in the maintenance plan.

EPA has concluded that Illinois' maintenance plan adequately addresses the five basic components of a maintenance plan: Attainment inventory, maintenance demonstration, monitoring network, verification of continued attainment, and a contingency plan. In addition, as required by section 175A(b) of the CAA, IEPA has committed to submit to EPA an updated ozone maintenance plan eight years after redesignation of the Metro-East area to cover an additional ten years beyond the initial 10-year maintenance period. Thus, the maintenance plan SIP revision submitted by IEPA meets the requirements of section 175A of the CAA and EPA proposes to approve it as a revision to the Illinois SIP.

V. Has Illinois adopted approvable motor vehicle emission budgets?

A. What are motor vehicle emission budgets?

Under section 176(c) of the CAA, new transportation plans, programs, or projects that receive Federal funding or support, such as the construction of new highways, must “conform” to (i.e., be consistent with) the SIP. Conformity to the SIP means that transportation activities will not cause new air quality violations, worsen existing air quality problems, or delay timely attainment of the NAAQS or interim air quality milestones. Regulations at 40 CFR part 93 set forth EPA policy, criteria, and procedures for demonstrating and assuring conformity of transportation activities to a SIP. Transportation conformity is a requirement for nonattainment and maintenance areas. Maintenance areas are areas that were previously nonattainment for a particular NAAQS, but that have been redesignated to attainment with an approved maintenance plan for the NAAQS.

Under the CAA, states are required to submit, at various times, control strategy SIPs for nonattainment areas and maintenance plans for areas seeking redesignations to attainment of the ozone standard and maintenance areas. See the SIP requirements for the 2008 ozone standard in EPA's March 6, 2015 implementation rule (80 FR 12264). These control strategy SIPs (including reasonable further progress plans and attainment plans) and maintenance plans must include MVEBs for criteria pollutants, including ozone, and their precursor pollutants (VOC and NOX for ozone) to address pollution from onroad transportation sources. The MVEBs are the portion of the total allowable emissions that are allocated to highway and transit vehicle use that, together with emissions from other sources in the area, will provide for attainment or maintenance. See 40 CFR 93.101.

Under 40 CFR part 93, a MVEB for an area seeking a redesignation to attainment must be established, at minimum, for the last year of the maintenance plan. A state may adopt MVEBs for other years as well. The MVEB serves as a ceiling on emissions from an area's planned transportation system. The MVEB concept is further explained in the preamble to the November 24, 1993, Transportation Conformity Rule (58 FR 62188). The preamble also describes how to establish the MVEB in the SIP and how to revise the MVEB, if needed, subsequent to initially establishing a MVEB in the SIP.

B. What is the status of EPA's adequacy determination for the proposed VOC and NOX MVEBs for the Metro-East area?

When reviewing submitted control strategy SIPs or maintenance plans containing MVEBs, EPA must affirmatively find that the MVEBs contained therein are adequate for use in determining transportation conformity. Once EPA affirmatively finds that the submitted MVEBs are adequate for transportation purposes, the MVEBs must be used by state and Federal agencies in determining whether proposed transportation projects conform to the SIP as required by section 176(c) of the CAA.

EPA's substantive criteria for determining adequacy of a MVEB are set out in 40 CFR 93.118(e)(4). The process for determining adequacy consists of three basic steps: Public notification of a SIP submission; provision for a public comment period; and EPA's adequacy determination. This process for determining the adequacy of submitted MVEBs for transportation conformity purposes was initially outlined in EPA's May 14, 1999 guidance, “Conformity Guidance on Implementation of March 2, 1999, Conformity Court Decision.” EPA adopted regulations to codify the adequacy process in the Transportation Conformity Rule Amendments for the “New 8-Hour Ozone and PM2.5 National Ambient Air Quality Standards and Miscellaneous Revisions for Existing Areas; Transportation Conformity Rule Amendments—Response to Court Decision and Additional Rule Change,” on July 1, 2004 (69 FR 40004). Additional information on the adequacy process for transportation conformity purposes is available in the proposed rule titled, “Transportation Conformity Rule Amendments: Response to Court Decision and Additional Rule Changes,” 68 FR 38974, 38984 (June 30, 2003).

As discussed earlier, IEPA's maintenance plan includes VOC and NOX MVEBs for the Metro-East area for 2030, the last year of the maintenance period. EPA reviewed the VOC and NOX MVEBs in accordance with the adequacy process. IEPA's May 8, 2017, maintenance plan SIP submission, including the VOC and NOX MVEBs for the Metro-East area, was open for public comment on EPA's adequacy Web site on August 21, 2017, at: https://www.epa.gov/state-and-local-transportation/adequacy-review-state-implementation-plan-sip-submissions-conformity.

The EPA public comment period on adequacy of the 2030 MVEBs for the Metro-East area closed on September 20, 2017. No comments on the submittal were received during the adequacy comment period. The submitted maintenance plan, which included the MVEBs, was endorsed by the Governor (or his or her designee) and was subject to a state public hearing. The MVEBs were developed as part of an interagency consultation process which includes Federal, state, and local agencies. Additionally, the MVEBs were clearly identified and precisely quantified. These MVEBs, when considered together with all other emissions sources, are consistent with maintenance of the 2008 ozone standard.

Table 10—MVEBs for the Metro-East Area [TPSD]
| Attainment year 2014 on-road emissions | 2030 estimated on-road emissions | 2030 mobile safety margin allocation | 2030 MVEBs
VOC | 10.11 | 3.75 | 5.30 | 9.05
NOX | 26.94 | 6.70 | 9.98 | 16.68

As shown in Table 10, the 2030 MVEBs exceed the estimated 2030 on-road sector emissions. In an effort to accommodate future variations in travel demand models and vehicle miles traveled forecast, IEPA allocated a portion of the safety margin (described further below) to the mobile sector. Illinois has demonstrated that the St. Louis area can maintain the 2008 ozone NAAQS with mobile source emissions in the Metro-East portion of the area of 9.05 TPSD of VOC and 16.68 TPSD of NOX in 2030. This is because emissions will remain under attainment year emission levels despite partial allocation of the safety margin. Based on this analysis, the St. Louis area should maintain attainment of the 2008 ozone NAAQS for the relevant maintenance period with mobile source emissions at the levels of the MVEBs.

Therefore, EPA has found that the MVEBs are adequate and is proposing to approve the MVEBs for use in determining transportation conformity in the Metro-East portion of the St. Louis area.

C. What is a safety margin and how did Illinois allocate it?

EPA's transportation conformity regulations allow for the use of a safety margin in the development of MVEBs for maintenance plans. A “safety margin” is the difference between the attainment level of emissions (from all sources) and the projected level of emissions (from all sources) in the maintenance plan. As noted in Table 8, the emissions in the Metro-East area are projected to have safety margins of 10.59 TPSD for VOC and 39.92 TPSD for NOX in 2030 (the difference between the attainment year, 2014, emissions and the projected 2030 emissions for all sources in the Metro-East area). Even if emissions reached the full level of the safety margin, the counties would still demonstrate maintenance because emission levels would equal those in the attainment year.

As shown in Table 10 above, Illinois is allocating a portion of that safety margin to the mobile source sector. Specifically, in 2030, Illinois is allocating 5.30 TPSD and 9.98 TPSD of the VOC and NOX safety margins, respectively. IEPA is not requesting allocation of the entire available safety margins reflected in the demonstration of maintenance. Therefore, even though the State is requesting MVEBs that exceed the projected onroad mobile source emissions for 2030 contained in the demonstration of maintenance, the increase in onroad mobile source emissions that can be considered for transportation conformity purposes is well within the safety margins of the ozone maintenance demonstration. Further, once allocated to mobile sources, these safety margins will not be available for use by other sources. Thus, IEPA continues to demonstrate maintenance of the 2008 ozone standard despite IEPA's allocation of part of the safety margin to the mobile source sector.

VI. Proposed Actions

EPA is proposing to determine that the St. Louis nonattainment area is attaining the 2008 ozone standard, based on quality-assured and certified monitoring data for 2014-2016 and that the Metro-East portion of this area has met the requirements for redesignation under section 107(d)(3)(E) of the CAA. EPA is thus proposing to approve IEPA's request to change the legal designation of the Metro-East portion of the St. Louis area from nonattainment to attainment for the 2008 ozone standard. EPA is also proposing to approve, as a revision to the Illinois SIP, the state's maintenance plan for the area. The maintenance plan is designed to keep the St. Louis area in attainment of the 2008 ozone NAAQS through 2030. Finally, EPA finds adequate and is proposing to approve the newly-established 2030 MVEBs for the Metro-East area.

VII. Statutory and Executive Order Reviews

Under the CAA, redesignation of an area to attainment and the accompanying approval of a maintenance plan under section 107(d)(3)(E) are actions that affect the status of a geographical area and do not impose any additional regulatory requirements on sources beyond those imposed by state law. A redesignation to attainment does not in and of itself create any new requirements, but rather results in the applicability of requirements contained in the CAA for areas that have been redesignated to attainment. Moreover, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, this rule does not have tribal implications as specified by Executive Order 13175 (65 FR 67249, November 9, 2000), because redesignation is an action that affects the status of a geographical area and does not impose any new regulatory requirements on tribes, impact any existing sources of air pollution on tribal lands, nor impair the maintenance of ozone national ambient air quality standards in tribal lands.

List of Subjects in 40 CFR Part 52

Environmental protection, Air pollution control, Incorporation by reference, Intergovernmental relations, Oxides of nitrogen, Ozone, Volatile organic compounds.

Dated: November 17, 2017.
Robert A. Kaplan,
Acting Regional Administrator, Region 5.

[FR Doc. 2017-26419 Filed 12-7-17; 8:45 am]

BILLING CODE 6560-50-P